NUCLEAR REGULATORY COMMISSION

[Docket No. PAPO-00; ASLBP No. 04-829-01-PAPO]

Department of Energy; Establishment of Atomic Safety and Licensing Board

Pursuant to delegation by the Commission dated December 29, 1972, published in the Federal Register, 37 FR 28710 (1972), and the Commission's regulations, see 10 CFR 2.300, 2.303, 2.318, 2.321, 2.1000, and 2.1010, and the Commission's July 7, 2004, order (CLI-04-20, 60 NRC _ (July 7, 2004)), notice is given that an Atomic Safety and Licensing Board is hereby established to preside over the following proceeding: U.S. Department of Energy, High-Level Waste Repository: Pre-Application Matters.

As specified in the Commission's July 7, 2004 order (CLI-04-20, 60 NRC at _ (slip op. at 2-4), this proceeding concerns matters relating to the Licensing Support Network (LSN) arising during the pre-license application phase prior to the filing of a license application by the United States Department of Energy seeking authorization to construct a high-level radioactive waste repository at Yucca Mountain, Nevada.*

* Unless and until additional licensing boards or other presiding officers are appointed to rule on individual pre-license application phase issues, or classes of issues, relating to the LSN, all requests for Pre-License Application Presiding Officer consideration of LSN-related problems should be submitted to the Licensing Board constituted by this issuance.

The Board is comprised of the following administrative judges:

Thomas S. Moore, Chair, Atomic Safety and Licensing Board Panel, U.S. Nuclear Regulatory Commission, Washington, DC 20555-0001.

Alex S. Karlin, Atomic Safety and Licensing Board Panel, U.S. Nuclear Regulatory Commission, Washington, DC 20555-0001.

Alan S. Rosenthal, Atomic Safety and Licensing Board Panel, U.S. Nuclear Regulatory Commission, Washington, DC 20555-0001.

All correspondence, documents, and other materials shall be filed with the administrative judges in accordance with 10 CFR 2.1010(d).

Issued in Rockville, Maryland, this 8th day of July 2004.
G. Paul Bollwerk, III,
Chief Administrative Judge, Atomic Safety and Licensing Board Panel.

[FR Doc. 04-15920 Filed 7-13-04; 8:45 am]

BILLING CODE 7590-01-P